DEPARTMENT OF HOMELAND SECURITY

Coast Guard

33 CFR Part 117

[CGD08-04-008]

Drawbridge Operation Regulations; Gulf Intracoastal Waterway—Black Bayou, LA

AGENCY: Coast Guard, DHS.

ACTION: Notice of temporary deviation from regulations.

SUMMARY: The Commander, Eighth Coast Guard District, has issued an extension of a temporary deviation from the regulation governing the operation of the Black Bayou Pontoon Bridge across the Gulf Intracoastal Waterway, mile 237.5 west of Harvey Lock, in Calcasieu Parish, LA. The extension allows the bridge to remain closed to navigation during daylight hours during weekdays only for an additional two weeks. The extension of the deviation is necessary to complete the repairs to the damaged portions of the fender system.

DATES: This extension of the deviation is effective from 7 a.m. on Thursday, April 15, 2004, through 5 p.m. on Wednesday, April 28, 2004.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: On March 1, 2004, a temporary deviation for the operation of the Black Bayou Pontoon Bridge across the Gulf Intracoastal Waterway, mile 237.5 west of Harvey Lock, in Calcasieu Parish, LA was published in the Federal Register (69 FR 9549). The temporary deviation allowed the bridge to remain in the closed-to-navigation position from 7 a.m. until 11 a.m. and from 1 p.m. until 5 p.m. Monday through Friday from March 17, 2004, through April 14, 2004. The Louisiana Department of Transportation and Development (LDOTD) has now requested a two-week extension to the temporary deviation in order to complete the repairs. The extension of the temporary deviation is necessary to ensure the complete repair of the fender system for the safety of the bridge. The extension of the temporary deviation will allow the bridge to remain in the closed-to-navigation position from 7 a.m. until 11 a.m. and from 1 p.m. until 5 p.m. Monday through Friday until April 28, 2004.

As the bridge has no vertical clearance in the closed-to-navigation position, vessels will not be able to transit through the bridge sight when the bridge is closed. Navigation at the site of the bridge consists mainly of tows with barges and some recreational pleasure craft. Due to prior experience, as well as coordination with waterway users, it has been determined that this closure will not have a significant effect on these vessels. The bridge normally opens to pass navigation an average of 878 times per month. The bridge opens on signal as required by 33 CFR 117.5. The bridge will be able to open for emergencies during the closure period with proper notice. Alternate routes are not available.

In accordance with 33 CFR 117.35(c), this work will be performed with all due speed in order to return the bridge to normal operation as soon as possible. This deviation from the operating regulations is authorized under 33 CFR 117.35.

Dated: March 23, 2004.
Marcus Redford,
Bridge Administrator.

[FR Doc. 04-7111 Filed 3-30-04; 8:45 am]

BILLING CODE 4910-15-P